DEPARTMENT OF THE INTERIOR

[AZ-100-07-1610-DQ-241E]

Notice of Availability of a Final Environmental Impact Statement (FEIS) for the Proposed Resource Management Plans for the Arizona Strip Field Office, the Vermilion Cliffs National Monument, and the BLM Portion of the Grand Canyon-Parashant National Monument and a Proposed General Management Plan for the NPS Portion of the Grand Canyon-Parashant National Monument (Proposed Plan/FEIS)

AGENCY: Bureau of Land Management, Interior. National Park Service, Interior.

ACTION: Notice of availability.

FOR FURTHER INFORMATION CONTACT: Planning Team, Arizona Strip District BLM, 345 East Riverside Drive, St. George, UT 84790

SUPPLEMENTARY INFORMATION: The Grand Canyon-Parashant National Monument (Parashant) was established by Presidential Proclamation on January 11, 2000. The Parashant is cooperatively managed by the Bureau of Land Management (BLM) and the National Park Service (NPS). It encompasses 1,048,325 acres in Mohave County, Arizona, of which 808,747 acres are administered by the BLM and 208,453 acres are administered by the NPS. The Vermilion Cliffs National Monument (Vermilion) was established by Presidential Proclamation on November 9, 2000. The Vermilion covers 293,689 acres in Coconino County, Arizona, and is administered solely by the BLM. The remainder of the BLM-administered lands on the Arizona Strip encompasses approximately 1,981,000 acres located in Mohave and Coconino Counties, Arizona, north of the Grand Canyon, and is almost entirely between the two National Monuments.

This Proposed Plan/FEIS has been developed in accordance with the National Environmental Policy Act of 1969 (NEPA), and the Federal Land Policy and Management Act of 1976, and the National Park Service (NPS) Organic Act of 1915, as amended and supplemented. It was prepared by the BLM and NPS in consultation with cooperating agencies, taking into account public comments received throughout the planning process. Four action alternatives, as well as the No-Action alternative, were developed and considered for the Proposed Plan/FEIS. Both the BLM and NPS selected the preferred alternative (as modified) from the Draft Plan/Draft Environmental Impact Statement (DEIS) as the Proposed Plan. The Proposed Plan/FEIS was developed with broad public participation through a five-year collaborative planning process. Issues identified during public scoping addressed in the Proposed Plan/FEIS include: (1) Access and Transportation—How will transportation and access be managed? (2) Wilderness—How will wilderness characteristics be protected? (3) Protection of Resources—How will National Monument objects, cultural and natural resources be protected? (4) Livestock Grazing—How will livestock grazing be addressed, particularly on the National Monuments? (5) Recreation—How will people's recreational activities be managed?

The Proposed Plan for BLM-administered lands identifies 13 potential Areas of Critical Environmental Concern (ACEC). Nine of these ACECs are carried forward from the Arizona Strip RMP (1992); four are new ACECs. The following types of resource use limitations would generally apply to these ACECs: (1) Motorized travel would be permitted only on existing (temporary) or designated open routes; (2) closed to vegetative product sales in all ACECs and collection of vegetative materials in ACECs designated for the protection of special status plants; (3) seasonal limitations on livestock grazing in ACECs designated for protection of special status animals; and (4) new mineral material disposal sites would not be authorized.

The Proposed Plan implements NPS management policies and ratifies the current management direction for the NPS lands of the Parashant. It provides for protection, inventory, monitoring, and restoration of natural and cultural resources, as well as primitive, dispersed recreational experiences characteristic of this very remote National Monument.

Copies of the Proposed Plan/FEIS have been sent to affected Federal, State, and local government agencies and to interested parties. Copies are available for public inspection at 345 East Riverside Drive, St. George, Utah 84790. Interested persons may also review the Proposed Plan/FEIS on the Internet at http://www.blm.gov/az/LUP/strip/reports.htm. Comments on the Draft Plan/DEIS received from the public and internal BLM and NPS and cooperating agency review comments were incorporated into the proposed plan. Public comments resulted in clarifying text or in minor corrections, but did not significantly change the Proposed Plan decisions.

BLM's planning process provides an opportunity for administrative review of the State Director's proposed decision by filing a protest on land use plan decisions with the BLM Director; the NPS does not have a formal process for protests. In accordance with 43 CFR 1610.5-2, any person who participated in the planning process and believes they will be adversely affected may protest the proposed resource management plans. The protest may raise only those issues which were submitted for the record during the planning process. All protests must be in writing and must be sent to the following address via regular mail or other delivery service. Protests must be postmarked no later than 30 days after the Environmental Protection Agency's (EPA) Notice of Availability is published in the Federal Register. The exact date will be published in local media and on our Web site, http://www.blm.gov/nhp/spotlight/state_info/planning.htm. Extensions will not be granted.

Protest letters on BLM land use planning decisions must be sent to:

If via U.S. Postal Service: Director, Bureau of Land Management, Attention: Brenda Williams (WO-210), P.O. Box 66538, Washington, DC 20035.

If via Overnight Express Mail: Director, Bureau of Land Management, Attention: Brenda Williams (WO-210), 1620 L Street NW., Suite 1075, Washington, DC 20236.

E-mail and faxed protests will not be accepted as valid, unless the protesting party also provides the original letter by regular mail or other delivery service postmarked by the close of the protest period. Under these conditions, the BLM will consider the e-mail or faxed protest as an advance copy and it will receive full consideration. If you wish to provide us with such advance notification, please direct faxed protests to the attention of Brenda Hudgens-Williams, Protest Coordinator, at 202-452-5112, and e-mails to bhudgens@blm.gov.

Before including your address, phone number, email address, or other personal identifying information in your comment, be advised that your entire comment—including your personal identifying information—may be made publicly available at any time. While you can ask us in your comment to withhold from public review your personal identifying information, we cannot guarantee that we will be able to do so. All submissions from organizations and businesses, and from individuals identifying themselves as representatives or officials of organizations or businesses, will be available for public inspection in their entirety.

At a minimum, protest letters must include:

1. The name, mailing address, telephone number, and interest of the person filing the protest.

2. A statement of the issue(s) being protested.

3. A statement of the part(s) of the proposed plans being protested. To the extent possible, this should be done by reference to specific pages, paragraphs, sections, tables, or maps included in the document.

4. A copy of all documents addressing the issue(s) that you submitted during the planning process or a reference to the date the issue(s) were discussed for the record.

5. A concise statement explaining why you believe the proposed plans are wrong. All relevant facts need to be included in this statement of reasons. The facts, reasons, and documentation are important to help us understand your protest, and that you are not merely expressing disagreement with the proposed decision.

The BLM Director will promptly render a decision on the protests. The decision will be in writing and will set forth the reasons for the decision. The protest decision will be sent to the protesting party by certified mail, return receipt requested. The decision of the Director will be the final decision of the Department of the Interior. The State Director will sign the Records of Decision (RODs) for the three BLM resource management plans, once the protests are resolved.

The Proposed Plan/FEIS also contains NPS decisions regarding management of park resources and visitor uses. Unlike the BLM, there is no protest or administrative appeals process related to NPS plans. The NPS encourages you to write the Superintendent, Grand Canyon-Parashant National Monument, to identify specific omissions of significance. Letters must be postmarked no later than 30 days after the EPA's Notice of Availability is published in the Federal Register. Comments submitted previously were considered and addressed in this Proposed Plan/FEIS. The NPS will prepare a separate ROD for the NPS portion of this Monument. The Grand Canyon-Parashant National Monument Proposed Plan is the NPS Environmentally Preferred Alternative. The BLM will identify the Environmentally Preferred Alternative in its RODs.

Letters to the Superintendent should include:

1. Your name, mailing address, and telephone number.

2. A statement of the issue(s) of concern.

3. Specific identification of the part(s) of the proposed plan that are of concern. To the extent possible, this should be done by reference to specific pages, paragraphs, sections, tables, or maps included in the document.

4. A copy of any documents addressing the issue(s) that you may have submitted during the planning process or a reference to the date the issue(s) were discussed for the record.

5. A concise statement explaining why you believe the proposed plan is in error. All relevant facts need to be included in this statement of reasons. The facts, reasons, and documentation are important to help us understand your specific concerns, rather than an expression of general disagreement with the proposed decision.

Letters to the Superintendent should be addressed as follows: Superintendent, National Park Service, Grand Canyon-Parashant National Monument, 345 East Riverside Drive, St. George, UT 84790.

A limited number of individual copies of the FEIS may be obtained from the Arizona Strip BLM or National Park Service, at 345 East Riverside Drive, St. George, UT 84790.

Willie R. Taylor,
Director, Office of Environmental, Policy and Compliance.

[FR Doc. 07-940 Filed 3-1-07; 8:45 am]

BILLING CODE 4310-84-P